ENVIRONMENTAL PROTECTION AGENCY

40 CFR Parts 52

[TN-233-1-20021b; FRL-6872-3]

Approval and Promulgation of the Implementation Plan for the Shelby County, Tennessee Lead Nonattainment Area

AGENCY: Environmental Protection Agency (EPA).

ACTION: Proposed rule.

SUMMARY: The Environmental Protection Agency (EPA) proposes to approve the lead state implementation plan (SIP) for the Shelby County, Tennessee lead nonattainment area. The Memphis and Shelby County Health Department through the Tennessee Department of Environment and Conservation submitted the lead SIP on March 17, 2000, pursuant to sections 110(a)(2) and 172(c) of the Clean Air Act (CAA). In the final rules section of this Federal Register, the EPA is approving Tennessee's SIP revision as a direct final rule without a prior proposal because the Agency views this as a noncontroversial revision amendment and anticipates no adverse comments. A detailed rationale for the approval is set forth in the direct final rule. If no adverse comments are received in response to the direct final rule, no further activity is contemplated in relation to this proposed rule. If EPA receives adverse comments, the direct final rule will be withdrawn and all public comments received will be addressed in a subsequent final rule based on this proposed rule. The EPA will not institute a second comment period on this document. Any parties interested in commenting on this document should do so at this time.

DATES: To be considered, comments must be received by October 20, 2000.

ADDRESSES: Written comments should be addressed to Kimberly Bingham, at the EPA Regional Office listed below. The interested persons wanting to examine these documents should make an appointment with the appropriate office at least 24 hours before the visiting day. Copies of the documents relative to this action are available for public inspection during normal business hours at the following locations. U.S. Environmental Protection Agency, Region 4, Sam Nunn Atlanta Federal Center, Air, Pesticides, and Toxics Management Division, Air Planning Branch, 61 Forsyth Street, Atlanta, 30303-3104. Tennessee Air Pollution Control Board, 9th Floor, L & C Annex, 401 Church Street, Nashville, Tennessee 37243-1531.

FOR FURTHER INFORMATION CONTACT: Kimberly Bingham of the EPA Region 4, Air Planning Branch at the above address. Ms. Bingham can be reached at (404) 562-9038 and Bingham.Kimberly@epa.gov.

SUPPLEMENTARY INFORMATION: For additional information, see the direct final rule which is published in the rule's section of this Federal Register.

Dated: September 5, 2000.
Mike V. Peyton,
Acting Regional Administrator, Region 4.

[FR Doc. 00-24043 Filed 9-19-00; 8:45 am]

BILLING CODE 6560-50-P